DEPARTMENT OF ENERGY

Federal Energy Regulatory Commission

[Project No. 14796-002]

GreenGenStorage, LLC; Notice of Application Tendered for Filing With the Commission and Establishing Procedural Schedule for Licensing and Deadline for Submission of Final Amendments

Take notice that the following hydroelectric application has been filed with the Commission and is available for public inspection.

a. Type of Application: Original License.

b. Project No.: 14796-002.

c. Date Filed: March 14, 2025.

d. Applicant: GreenGenStorage, LLC.

e. Name of Project: Mokelumne Pumped Storage Project.

f. Location: The proposed project would be located near the town of Jackson, in Amador and Calaveras Counties, California. The project would occupy 85.7 acres of Federal land administered by the U.S. Forest Service.

g. Filed Pursuant to: Federal Power Act, 16 U.S.C. 791 (a)-825(r).

h. Applicant Contact: Mr. Nicholas Sher, GreenGenStorage, LLC, 4900 Shattuck Avenue, P.O. Box 3833, Oakland, CA 94609; (209) 217-1425; email: nicholas@greengenstorage.com.

i. FERC Contact: Rebecca Kipp, (202) 502-8846 or rebecca.kipp@ferc.gov.

j. This application is not ready for environmental analysis at this time.

k. The Project Description: The proposed Mokelumne Pumped Storage Project would utilize the existing Pacific Gas and Electric's (PG&E) reservoirs licensed under Mokelumne River Project No. 137 with the following: (1) a 979-foot-long, 253-foot-high concrete faced rock filled dam and an 865-foot-long, 149-foot-high concrete faced rock filled dam impounding a 52,025-acre-foot Lower Bear River Reservoir (LBRR) to be used as the upper reservoir; (2) a 1,257-foot long and 332-foot high concrete faced, rock filled dam impounding a 141,600-acre-foot Salt Spring Reservoir (SSR) to be used as the lower reservoir;

The proposed project would consist of the following: (1) an upper reservoir with a submerged screened lake tap within the LBRR with a 100-foot diameter, 30-foot high intake riser at an elevation of 5,680.3 feet NAVD88, a 50-foot diameter intake lake tap at an elevation of 5,680.3 feet NAVD88 with a 23-foot by 23-foot fixed wheel gate and 23-foot by 23-foot stoplogs; (2) a lower reservoir (SSR) with a submerged screened lake tap with an 80-foot diameter, 30-foot high intake riser at an elevation of 3,693.5 feet NAVD88, a 40-foot diameter intake lake tap at an elevation of 3,693.5 feet NAVD88, and a 22-foot butterfly valve for the lower intake; (3) a 10,700-foot long, 22-foot-diameter low pressure headrace tunnel (tunnel 1); (4) a 1560-foot-long, 22-foot diameter pressure shaft with a 550-foot-long, 30-foot diameter surge shaft daylighting on the surface; (5) a 4,700-foot long, 22-foot diameter pressurized water conveyance system (tunnel 2); (6) a 260-foot long, 70-foot wide, 163-foot high underground cavern containing two reversible Francis turbines with a spare bay for the potential installation of a third unit in the future with a total generating capacity of 400 megawatts; (7) a 2,200-foot long, 22-foot diameter low pressure tailrace (tunnel 3); (8) a 4,100-foot-long, 18-foot diameter utility tunnel that would transmit power to the 230-kilovolt switchyard serving as the interconnection point with the existing Salt Springs substation; and (9) appurtenant facilities.

l. In addition to publishing this notice in the Federal Register, the Commission provides all interested persons an opportunity to view and/or print the contents of this notice, as well as other documents in the proceeding (e.g., license application) via the internet through the Commission's Home Page (https://www.ferc.gov), using the “eLibrary” link. Enter the docket number, excluding the last three digits in the docket number field to access the document (P-14796). For assistance, please contact FERC Online Support at FERCOnlineSupport@ferc.gov, (866) 208-3676 (toll free), or (202) 502-8659 (TTY). You may also register online at https://www.ferc.gov/docs-filing/esubscription.asp to be notified via email of new filings and issuances related to this or other pending projects. For assistance, contact FERC Online Support.

m. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595, or OPP@ferc.gov.

n. Procedural Schedule:

The application will be processed according to the following preliminary Hydro Licensing Schedule. Revisions to the schedule may be made as appropriate.

Milestone | Target date
Deficiency letter (if necessary) | April 2025.
Additional Information Request (if necessary) | April 2025.
Notice of Acceptance/Notice of Ready for Environmental Analysis | July 2025.

o. Final amendments to the application must be filed with the Commission no later than 30 days from the issuance date of the notice of ready for environmental analysis.

Dated: March 28, 2025.
Debbie-Anne A. Reese,
Secretary.

[FR Doc. 2025-05765 Filed 4-3-25; 8:45 am]

BILLING CODE 6717-01-P